DEPARTMENT OF COMMERCE

Census Bureau

Proposed Information Collection; Comment Request; Generic Clearance for Collection of State Administrative Records Data

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before November 15, 2019.

ADDRESSES: Direct all written comments to Michael Berning, Assistant Division Chief for Data Acquisition and Curation, U.S. Census Bureau, 4600 Silver Hill Road, Room 5H151, Washington, DC 20233 (or via the internet at PRAcomments@doc.gov). You may also submit comments, identified by Docket Number USBC-2019-0008, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Michael Berning, U.S. Census Bureau, 4600 Silver Hill Road, Room 5H151, Washington, DC 20233-8400 at (301) 763-2028.

SUPPLEMENTARY INFORMATION

I. Abstract

The U.S. Census Bureau plans to request a general clearance for acquiring State administrative records in order to improve efficiency and accuracy in our data collections, and to improve measures of the population and economy. The records to be acquired are person-level program participating records that will be used to support the decennial census program as well as for research topics that includes eligibility analyses. The Census Bureau has undertaken research projects to integrate and link State administrative records with Census Bureau data from current surveys and censuses.

The Census Bureau uses the State administrative records linked with other survey and census records to conduct further research and improve operations with surveys and censuses, including 2020 Census Operations. The Census Bureau benefits from these projects by improving data quality and estimates, as well as studies of program participation over time. State data providers have benefited through access to tabulated data and reports to better understand the demographic characteristics of program participants and to administer their programs.

II. Method of Collection

The Census Bureau will contact the State agencies to discuss how the Census Bureau might use of State administrative records. After entering into a data sharing agreement with the Census Bureau, a State agency would transfer the agreed-upon administrative records to the Census Bureau via secure File Transfer Protocol or encrypted CD-ROM or DVD-ROM.

III. Data

OMB Control Number: 0607-0995.

Form Number(s): Information will be collected in the form of a data transfer to the Census Bureau. No form will be used.

Type of Review: Regular submission.

Affected Public: State governments.

Estimated Number of Respondents: 50 states and the District of Columbia.

Estimated Time Per Response: 75 hours.

Estimated Total Annual Burden Hours: 3,825 hours.

Estimated Total Annual Cost to Public: $80,325 (This is not the cost of respondents' time, but the indirect costs respondents may incur for such things as purchases of specialized software or hardware needed to report, or expenditures for accounting or records maintenance services required specifically by the collection.)

Respondent's Obligation: Voluntary.

Legal Authority: Title 13 U.S.C. Section 6.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-19923 Filed 9-13-19; 8:45 am]

BILLING CODE 3510-07-P